DEPARTMENT OF THE TREASURY

Office of Thrift Supervision

Ideal Federal Savings Bank, Baltimore, Maryland; Notice of Appointment of Receiver

Notice is hereby given that, pursuant to the authority contained in section 5(d)(2) of the Home Owners' Loan Act, the Office of Thrift Supervision has duly appointed the Federal Deposit Insurance Corporation as sole Receiver for Ideal Federal Savings Bank, Baltimore, Maryland, (OTS No. 08283), on July 9, 2010.

Dated: July 12, 2010.
By the Office of Thrift Supervision.
Sandra E. Evans,
Federal Register Liaison.

[FR Doc. 2010-17333 Filed 7-16-10; 8:45 am]

BILLING CODE 6720-01-M